DEPARTMENT OF ENERGY

Federal Energy Regulatory Commission

[Docket No. RT02-2-000, RT01-86-000, RT01-95-000, RM99-2-000, RT01-99-000, and RT01-100-000]

State-Federal Regional Panels on Regional Transmission Organizations, New England Transmission Owners, New York Independent System Operator, Inc., Regional Transmission Organizations; Notice of State-Federal Regional Panel

May 13, 2002.

On May 28, 2002, from 10 a.m. to 12 p.m. Eastern Daylight Time, there will be a state-federal regional panel in the form of a teleconference for New England and New York. Commissioners and staff from state regulatory agencies, the Federal Energy Regulatory Commission, and comparable Canadian national or provincial agencies will participate in the panel. It is established pursuant to the Order Announcing the Establishment of State-Federal Regional Panels to Address RTO Issues, Modifying the Application of Rule 2201 in the Captioned Dockets, and Clarifying Order No. 607, 97 FERC ¶ 61,182 (2001), order on reh'g, 98 FERC ¶ 61,309 (2002), amended by 99 FERC ¶ 61,092 (2002).

The participants have proposed the following agenda:

(1) The cost-benefit study on regional transmission organizations to be released May 14, 2002, by the New England and New York Independent System Operators.

(2) The geographic scope of regional transmission organizations in relation to New England.

(3) The merger of the New England and New York Independent System Operators.

(4) Governance of regional transmission organizations, including selection of board members and independence.

(5) Market monitoring.

The panel discussion will be transcribed, and the transcript will be placed in the captioned dockets. Ace-Federal Reporters will provide copies of the transcript at cost. The phone numbers for Ace-Federal Reporters are (800) 336-6646 and (202) 347-3700. Additionally, the Commission will post the transcript on its website ten days after receipt from Ace-Federal Reporters.

For additional information, please contact: Sarah McKinley, State Relations, Federal Energy Regulatory Commission, 888 First Street, NE., Washington, DC 20426, (202) 208-2016, Sarah.McKinley@ferc.gov.

Magalie R. Salas,
Secretary.

[FR Doc. 02-12370 Filed 5-16-02; 8:45 am]

BILLING CODE 6717-01-P